DEPARTMENT OF HOMELAND SECURITY

[Docket No. CISA-2019-0011]

Notice of President's National Security Telecommunications Advisory Committee Meeting

AGENCY: Cybersecurity and Infrastructure Security Agency, DHS.

ACTION: Announcement of meeting; request for comments.

SUMMARY: The Cybersecurity and Infrastructure Security Agency (CISA) is publishing this notice to announce the following President's National Security Telecommunications Advisory Committee (NSTAC) meeting. This meeting is open to the public.

DATES:

Meeting Registration: Registration to attend the meeting is required and must be received no later than 5:00 p.m. Eastern Time (ET) on August 26, 2019.

Speaker Registration: Registration to speak during the meeting's public comment period must be received no later than 5:00 p.m. ET on August 26, 2019.

Written Comments: Written comments must be received no later than 5:00 p.m. ET on August 26, 2019.

Meeting Date: The NSTAC will meet on September 3, 2019 from 4:00 p.m. to 5:00 p.m. ET. The meeting may close early if the committee has completed its business.

ADDRESSES: The meeting will be held via conference call. For access to the conference call bridge, information on services for individuals with disabilities, or to request special assistance to participate, please email NSTAC@hq.dhs.gov by 5:00 p.m. ET on August 26, 2019.

Comments: Members of the public are invited to provide comment on the issues that will be considered by the committee as listed in the SUPPLEMENTARY INFORMATION section below. Associated materials that participants may discuss during the meeting will be available at www.dhs.gov/cisa/national-security-telecommunications-advisory-committee for review as of Monday, August 19, 2019. Comments may be submitted by 5:00 p.m. ET on August 26, 2019 and must be identified by Docket Number CISA-2019-0011. Comments may be submitted by one of the following methods:

• Federal eRulemaking Portal: http://www.regulations.gov. Please follow the instructions for submitting written comments.

• Email: NSTAC@hq.dhs.gov. Include the Docket Number CISA-2019-0011 in the subject line of the email.

Instructions: All submissions received must include the words “Department of Homeland Security” and the Docket Number for this action. Comments received will be posted without alteration at www.regulations.gov, including any personal information provided.

Docket: For access to the docket and comments received by the NSTAC, please go to www.regulations.gov and enter docket number CISA-2019-0011.

A public comment period will be held during the meeting from 4:20 p.m.-4:40 p.m. ET. Speakers who wish to participate in the public comment period must register by emailing NSTAC@hq.dhs.gov. Speakers are requested to limit their comments to three minutes and will speak in order of registration. Please note that the public comment period may end before the time indicated, following the last request for comments.

FOR FURTHER INFORMATION CONTACT: Helen Jackson, 703-705-6276, helen.jackson@hq.dhs.gov.

SUPPLEMENTARY INFORMATION: The NSTAC was established by E.O. 12382, 47 FR 40531 (September 13, 1982), as amended and continued under the authority of E.O. 13811, dated September 29, 2017. Notice of this meeting is given under the Federal Advisory Committee Act, 5 U.S.C. Appendix (Pub. L. 92-463). The NSTAC advises the President on matters related to national security and emergency preparedness (NS/EP) telecommunications and cybersecurity policy.

Agenda: The NSTAC will hold a conference call on Tuesday, September 3, 2019, to discuss issues and challenges related to NS/EP communications. This will include discussions with Senior Level Government Stakeholders, a review of ongoing NSTAC work and a deliberation, and vote on the NSTAC Report to the President on Advancing Resiliency and Fostering Innovation in the Information and Communications Technology (ICT) Ecosystem. In this report, the NSTAC examined technology capabilities that are critical to NS/EP functions in the evolving ICT ecosystem, and Government measures and policy actions to manage near term risks, support innovation, and enhance vendor diversity for NS/EP critical capabilities.

Dated: August 7, 2019.
Helen Jackson,
Designated Federal Officer, National Security Telecommunications Advisory Committee, Cybersecurity and Infrastructure Security Agency, Department of Homeland Security.

[FR Doc. 2019-17480 Filed 8-14-19; 8:45 am]

BILLING CODE 4410-10-P